DEPARTMENT OF TRANSPORTATION

Pipeline and Hazardous Materials Safety Administration

List of Applications Delayed More Than 180 Days

AGENCY: Office of Hazardous Materials Safety, Pipeline and Hazardous Materials Safety Administration (PHMSA), DOT.

ACTION: List of applications delayed more than 180 days.

SUMMARY: PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

SUPPLEMENTARY INFORMATION: In accordance with the requirements of 49 U.S.C. 5117(c), PHMSA is publishing the following list of special permit applications that have been in process for 180 days or more.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party to Exemption Request

Issued in Washington, DC, on February 18, 2014.
Donald Burger,
Chief, General Approvals.

Application No. | Applicant | Reason for delay | Estimated date of completion
Modification to Special Permits
15577-M | Olin Corporation Oxford, MS | 4 | 02-28-2014
11947-M | Patts Fabrication, Inc. Midland, TX | 4 | 03-31-2014
New Special Permit Applications
15767-N | Union Pacific Railroad Company Omaha, NE | 1 | 03-31-2014
15853-N | Praxair, Inc. Danbury, CT | 4 | 03-31-2014
15847-N | Safariland, LLC Jacksonville, FL | 4 | 03-31-2014
15863-N | Baker Hughes Oilfield Operations Inc. Houston, TX | 3 | 03-31-2014
15869-N | Mercedes-Benz USA, LLC (MBUSA) Montvale, NJ | 4 | 03-31-2014
15880-N | Viking Packing Specialist Catoosa, OK | 4 | 03-31-2014
15882-N | Ryan Air Anchorage, AK | 4 | 03-31-2014
15883-N | The Boeing Company Canoga Park, CA | 4 | 03-31-2014
15874-N | Summit Helicopter, Incorporated Pacoima, CA | 3 | 03-31-2014
Party to Special Permits Application
14155-P | Crazy Fireworks, LLC Ann Arbor, MI | 4 | 03-31-2014
15647-P | Allied Universal Corporation Miami, FL | 3 | 03-31-2014
Renewal Special Permits Applications
12412-R | Davis Supply, Inc. Fort Myers, FL | 1 | 03-31-2014
14155-R | American Promotional Events, Inc. North-West dba/TNT Fireworks Florence, AL | 2,3 | 02-28-2014
7954-R | Linde LLC Murray Hill, NJ | 4 | 03-31-2014
14267-R | LATA Environmental Services of Kentucky, LLC (LATA Kentucky) Kevil, KY | 3 | 03-31-2014
15392-R | Brim Equipment Leasing, Inc. dba Brim Aviation Ashland, OR | 4 | 03-31-2014

[FR Doc. 2014-04287 Filed 3-3-14; 8:45 am]

BILLING CODE 4910-60-M